DEPARTMENT OF TRANSPORTATION

Federal Aviation Administration

Meeting: RTCA Special Committee 223, Airport Surface Wireless Communications

AGENCY: Federal Aviation Administration (FAA), U.S. Department of Transportation (DOT)

ACTION: Meeting Notice of RTCA Special Committee 223, Airport Surface Wireless Communications

SUMMARY: The FAA is issuing this notice to advise the public of the meeting of the RTCA Special Committee 223, Airport Surface Wireless Communications.

DATES: The meeting will be held March 19-21, 2013, from 9:00 a.m.—5:00 p.m. daily.

ADDRESSES: The meeting will be held at Booze, Allen, Hamilton Offices, 1201 Maryland Avenue SW., Suite 5140, Washington, DC 20036.

FOR FURTHER INFORMATION CONTACT: The RTCA Secretariat, 1150 18th Street NW., Suite 910, Washington, DC 20036, or by telephone at (202) 330-0662/(202) 833-9339, fax (202) 833-9434, or Web site at http://www.rtca.org.

SUPPLEMENTARY INFORMATION: Pursuant to section 10(a)(2) of the Federal Advisory Committee Act (Pub. L. No. 92-463, 5 U.S.C., App.), notice is hereby given for a meeting of Special Committee 223. The agenda will include the following:

Tuesday, March 19 Through Thursday, March 21, 2013

• Plenary: Welcome, Introductions, Administrative Remarks.

• Agenda Overview.

• Review and Approve prior Plenary Meeting Summary.

• Profile CCB Status.

• Detailed MOPS Review:

• Convergence Sub-layer.

• Security.

• MAC Layer.

• Physical Layer.

• PICS.

• CRSL.

• Review/Approval of MOPS for FRAC.

• Review of Meeting Summary Report.

• Finalize date of next meeting:

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 21, 2013.
Paige Williams,
Management Analyst, NextGen, Business Operations Group, Federal Aviation Administration.

[FR Doc. 2013-04562 Filed 2-26-13; 8:45 am]

BILLING CODE 4910-13-P